DEPARTMENT OF AGRICULTURE

Rural Housing Service

Notice of Timeframe for Section 514 Farm Labor Housing Loans and Section 516 Farm Labor Housing Grants for Off-Farm Housing for Fiscal Year 2004

AGENCY: Rural Housing Service (RHS), USDA.

ACTION: Notice.

SUMMARY: This Notice announces the timeframe to submit applications for section 514 Farm Labor Housing loan funds and section 516 Farm Labor Housing grant funds for new construction and acquisition and rehabilitation of off-farm units for farmworker households. Applications may also include requests for section 521 rental assistance (RA) and operating assistance for migrant units. This document describes the method used to distribute funds, the application process, and submission requirements. RHS is publishing this Notice prior to passage of a final appropriations act to give applicants the maximum amount of time possible to complete their applications, and to provide the Agency sufficient time to process the selected applications within the current fiscal year. Applications for Fiscal Year (FY) 2004 will only be accepted through the date and time listed in this Notice. A Notice of Funding Availability announcing the level of funding for the program will be published upon passage of a final appropriations act in accordance with 42 U.S.C. 1490p and 7 CFR 1944.170. Because the Agency's appropriations act has not been passed, the Agency cannot make funding commitments. Expenses incurred in developing applications will be at the applicant's risk.

DATES: The closing deadline for receipt of all applications in response to this Notice is 5 p.m., local time for each Rural Development State Office on May 6, 2004. The application deadline is firm as to date and hour. RHS will not consider any application that is received after the closing deadline. Applicants intending to mail applications must provide sufficient time to permit delivery on or before the closing deadline date and time. Acceptance by the United States Postal Service or private mailer does not constitute delivery. Facsimile and postage due applications will not be accepted.

ADDRESSES: Applicants wishing to apply for assistance must contact the Rural Development State Office serving the place in which they desire to submit an application for off-farm labor housing to receive further information and copies of the application package. Rural Development will date and time stamp incoming applications to evidence timely receipt, and, upon request, will provide the applicant with a written acknowledgment of receipt. A listing of Rural Development State Offices, their addresses, telephone numbers, and person to contact follows:

Note: Telephone numbers listed are not toll-free.

Alabama State Office

Suite 601, Sterling Center, 4121 Carmichael Road , Montgomery, AL 36106-3683, (334) 279-3455, TDD (334) 279-3495, James B. Harris.

Alaska State Office

800 West Evergreen, Suite 201, Palmer, AK 99645, (907) 761-7740, TDD 907-761-8905, Deborah Davis.

Arizona State Office

Phoenix Corporate Center, 3003 N. Central Ave., Suite 900, Phoenix, AZ 85012-2906, (602) 280-8706, TDD (602) 280-8770, Johnna Vargas.

Arkansas State Office

700 W. Capitol Ave., Rm. 3416, Little Rock, AR 72201-3225, (501) 301-3250, TDD (501) 301-3279, Clinton King.

California State Office

430 G Street, Agency 4169, Davis, CA 95616-4169, (530) 792-5819, TDD (530) 792-5848, Jeff Deis.

Colorado State Office

655 Parfet Street, Room E100, Lakewood, CO 80215, (720) 544-2923, TDD (800) 659-2656, Mary Summerfield.

Connecticut

Served by Massachusetts State Office.

Delaware & Maryland State Office, 5201 South Dupont Highway, PO Box 400, Camden, DE 19934-9998, (302) 697-4353, TDD (302) 697-4303, Pat Baker.

Florida & Virgin Islands State Office

4440 N.W. 25th Place, PO Box 147010, Gainesville, FL 32614-7010, (352) 338-3465, TDD (352) 338-3499, Joseph P. Fritz.

Georgia State Office

Stephens Federal Building, 355 E. Hancock Avenue, Athens, GA 30601-2768, (706) 546-2164, TDD (706) 546-2034, Wayne Rogers.

Guam

Served by Hawaii State Office.

Hawaii, Guam, & Western Pacific Territories State Office

Room 311, Federal Building, 154 Waianuenue Avenue, Hilo, HI 96720, (808) 933-8309, TDD (808) 933-8321, Thao Khamoui.

Idaho State Office

Suite A1, 9173 West Barnes Dr., Boise, ID 83709, (208) 378-5628, TDD (208) 378-5644, LaDonn McElligott.

Illinois State Office

2118 W. Park Ct. Suite A, Champaign, IL 6821-2986, (217) 403-6222, TDD (217) 403-6240, Barry L. Ramsey.

Indiana State Office

5975 Lakeside Boulevard, Indianapolis, IN 46278, (317) 290-3100 (ext. 423), TDD (317) 290-3343, John Young.

Iowa State Office

873 Federal Building, 210 Walnut Street, Des Moines, IA 50309, (515) 284-4666, TDD (515) 284-4858, Julie Sleeper.

Kansas State Office

1303 SW First American Place, Suite 100, Topeka, KS 66604-4040, (785) 271-2721, TDD (785) 271-2767, Virginia M. Hammersmith.

Kentucky State Office

771 Corporate Drive, Suite 200, Lexington, KY 40503, (606) 224-7300, TDD (606) 224-7422, Paul Higgins.

Louisiana State Office

3727 Government Street, Alexandria, LA 71302, (318) 473-7962, TDD (318) 473-7655, Yvonne R. Emerson.

Maine State Office

444 Stillwater Ave., Suite 2, PO Box 405, Bangor, ME 04402-0405, (207) 990-9110, TDD (207) 942-7331, Dale Holmes.

Maryland

Served by Delaware State Office.

Massachusetts, Connecticut, & Rhode Island State Office

451 West Street, Amherst, MA 01002, (413) 253-4315, TDD (413) 253-4590, Paul Geoffroy.

Michigan State Office

3001 Coolidge Road, Suite 200, East Lansing, MI 48823, (517) 324-5192, TDD (517) 337-6795, Philip Wolak.

Minnesota State Office

410 AgriBank Building, 375 Jackson Street, St. Paul, MN 55101-1853, (651) 602-7804, TDD (651) 602-7830, Joyce Vondal.

Mississippi State Office

Federal Building, Suite 831, 100 W. Capitol Street, Jackson, MS 39269, (601) 965-4325, TDD (601) 965-5850, Darnella Smith-Murray.

Missouri State Office

1201 Business Loop 70 West, Parkade Center, Suite 235, Columbia, MO 65203, (573) 876-9305, TDD (573) 876-9480, Colleen James.

Montana State Office

Unit 1, Suite B, 900 Technology Blvd., Bozeman, MT 59715, (406) 585-2518, TDD (406) 585-2562, Craig Hildreth.

Nebraska State Office

Federal Building, Room 152, 100 Centennial Mall N, Lincoln, NE 68508, (402) 437-5567, TDD (402) 437-5093, Phil Willnerd.

Nevada State Office

1390 South Curry Street, Carson City, NV 89703-9910, (775) 887-1222 (ext. 13), TDD (775) 885-0633, William L. Brewer.

New Hampshire State Office

Concord Center, Suite 218, Box 317, 10 Ferry Street, Concord, NH 03301-5004, (603) 223-6046, TDD (603) 229-0536, Jim Fowler.

New Jersey State Office

5th Floor North Suite 500, 8000 Midlantic Dr., Mt. Laurel, NJ 08054, (856) 787-7740, TDD (856) 787-7784, George Hyatt, Jr.

New Mexico State Office

6200 Jefferson St., NE, Room 255, Albuquerque, NM 87109, (505) 761-4944, TDD (505) 761-4938, Carmen N. Lopez.

New York State Office

The Galleries of Syracuse, 441 S. Salina Street, Suite 357, Syracuse, NY 13202, (315) 477-6419, TDD (315) 477-6447, George N. Von Pless.

North Carolina State Office

4405 Bland Road, Suite 2120, Raleigh, NC 27609, (919) 873-2066, TDD (919) 873-2003, Terry Strole.

North Dakota State Office

Federal Building, Room 208, 220 East Rosser, PO Box 1737, Bismarck, ND 58502, (701) 530-2049, TDD (701) 530-2113, Kathy Lake.

Ohio State Office

Federal Building, Room 507, 200 North High Street, Columbus, OH 43215-2477, (614) 255-2418, TDD (614) 255-2554, Melodie Taylor.

Oklahoma State Office

100 USDA, Suite 108, Stillwater, OK 74074-2654, (405) 742-1070, TDD (405) 742-1007, Ivan Graves.

Oregon State Office

101 SW Main, Suite 1410, Portland, OR 97204-3222, (503) 414-3325, TDD (503) 414-3387, Margo Donelin.

Pennsylvania State Office

One Credit Union Place, Suite 330, Harrisburg, PA 17110-2996, (717) 237-2282, TDD (717) 237-2261, Martha E. Hanson.

Puerto Rico State Office

IBM Building, Suite 601, Munoz Rivera Ave. #654, San Juan, PR 00918, (787) 766-5095 (ext. 254), TDD 1-800-274-1572, Lourdes Colon.

Rhode Island

Served by Massachusetts State Office.

South Carolina State Office

Strom Thurmond Federal Building, 1835 Assembly Street, Room 1007, Columbia, SC 29201, (803) 253-3432, TDD (803) 765-5697, Larry D. Floyd.

South Dakota State Office

Federal Building, Room 210, 200 Fourth Street, SW, Huron, SD 57350, (605) 352-1132, TDD (605) 352-1147, Dwight Wullweber.

Tennessee State Office

Suite 300, 3322 West End Avenue, Nashville, TN 37203-1084, (615) 783-1375, TDD (615) 783-1397, G. Benson Lasater.

Texas State Office

Federal Building, Suite 102, 101 South Main, Temple, TX 76501, (254) 742-9755, TDD (254) 742-9712, Eugene G. Pavlat.

Utah State Office

Wallace F. Bennett Federal Building, 125 S. State Street, Room 4311, Salt Lake City, UT 84138, (801) 524-4323, TDD (801) 524-3309, Dave Brown.

Vermont State Office

City Center, 3rd Floor, 89 Main Street, Montpelier, VT 05602, (802) 828-6028, TDD (802) 223-6365, Sandra Mercier.

Virgin Islands

Served by Florida State Office.

Virginia State Office

Culpeper Building, Suite 238, 1606 Santa Rosa Road, Richmond, VA 23229, (804) 287-1547, TDD (804) 287-1753, Eileen Nowlin.

Washington State Office

1835 Black Lake Blvd., Olympia, WA 98512, (360) 704-7731, TDD (360) 704-7760, Robert Lund.

Western Pacific Territories

Served by Hawaii State Office.

West Virginia State Office

Federal Building, 75 High Street, Room 320, Morgantown, WV 26505-7500, (304) 284-4889, TDD (304) 284-4836, Craig St. Clair.

Wisconsin State Office

4949 Kirschiling Court, Stevens Point, WI 54481, (715) 345-7608 (ext. 7145), TDD (715) 345-7614, Sherry Engel.

Wyoming State Office

100 East B, Federal Building, Room 1005, PO Box 820, Casper, WY 82602, (307) 261-6315, TDD (307) 261-6333, Charles Huff.

FOR FURTHER INFORMATION CONTACT: For general information, applicants may contact Douglas MacDowell, Senior Loan Specialist, of the Multi-Family Housing Processing Division, Rural Housing Service, United States Department of Agriculture, Stop 0781, 1400 Independence Avenue, SW., Washington, DC, 20250, telephone (202) 720-1627 (voice) (this is not a toll free number) or (800) 877-8339 (TDD-Federal Information Relay Service).

SUPPLEMENTARY INFORMATION:

Programs Affected

The Farm Labor Housing Program is listed in the Catalog of Federal Domestic Assistance under Number 10.405, Farm Labor Housing Loans and Grants. Rental Assistance is listed in the Catalog under Number 10.427, Rural Rental Assistance Payments.

Definitions

Farm Labor. Farm labor includes services in connection with cultivating the soil, raising or harvesting any agriculture or aquaculture commodity; or in catching, netting, handling, planting, drying, packing, grading, storing, or preserving in its unmanufactured state any agriculture or aquaculture commodity; or delivering to storage, market, or a carrier for transportation to market or to process any agricultural or aquacultural commodity.

Migrant Agricultural Laborers. Agricultural laborers and family dependents who establish a temporary residence while performing agriculture work at one or more locations away from the place they call home or home base. (This does not include day-haul agricultural workers whose travels are limited to work areas within one day of their work locations.)

Off-Farm Labor Housing. Housing for farm laborers regardless of the farm where they work.

Discussion of Notice

I. Authority and Distribution Methodology

A. Authority

The Farm Labor Housing program is authorized by the Housing Act of 1949: Section 514 (42 U.S.C. 1484) for loans and section 516 (42 U.S.C. 1486) for grants. Tenant subsidies (rental assistance (RA)) are available through section 521 (42 U.S.C. 1490a). Sections 514 and 516 provide RHS the authority to make loans and grants for financing off-farm housing to broad-based nonprofit organizations, nonprofit organizations of farmworkers, federally recognized Indian tribes, agencies or political subdivisions of State or local government, public agencies (such as local housing authorities) and with section 514 loans to nonprofit limited partnerships in which the general partner is a nonprofit entity.

B. Distribution Methodology

Because RHS has the ability to adjust loan and grant levels, final loan and grant levels will fluctuate. The actual funds available for fiscal year (FY) 2004 for off-farm housing will be published at a later date in a subsequent Notice.

C. Section 514 and Section 516 Funds

Section 514 loan funds and section 516 grant funds will be distributed to States based on a national competition, as follows:

1. States will accept, review, and score requests in accordance with 7 CFR part 1944, subpart D. The scoring factors are:

(a) The presence and extent of leveraged assistance, including donated land, for the units that will serve program-eligible tenants, calculated as a percentage of the RHS total development cost (TDC). RHS TDC excludes non-RHS eligible costs such as a developer's fee. Leveraged assistance includes, but is not limited to, funds for hard construction costs, section 8 or other non-RHS tenant subsidies, and state or federal funds. A minimum of ten percent leveraged assistance is required to earn points; however, if the total percentage of leveraged assistance is less than ten percent and the proposal includes donated land, two points will be awarded for the donated land. Points will be awarded in accordance with the following table. (0 to 20 points)

Percentage | Points
75 or more | 20
60-74 | 18
50-59 | 16
40-49 | 12
30-39 | 10
20-29 | 8
10-19 | 5
0-9 | 0
Donated land in proposals with less than ten percent total leveraged assistance | 2

(b) Seasonal, temporary, migrant housing. (5 points for up to and including 50 percent of the units; 10 points for 51 percent or more.)

(c) The selection criteria contained in 7 CFR part 1944, Subpart D includes one optional criteria set by the National Office. The National office initiative will be used in the selection criteria as follows: Up to 10 Points will be awarded based on the presence of and extent to which a tenant services plan exists that clearly outlines services that will be provided to the residents of the proposed project. These services may include but are not limited to: transportation related services, on-site English as a Second Language (ESL) classes, move-in funds, emergency assistance funds, homeownership counseling, food pantries, after school tutoring, and computer learning centers. Two points will be awarded for each resident service included in the tenant services plan up to a maximum of 10 points. Plans must detail how the services are to be administered, who will administer them, and where they will be administered. All tenant service plans must include letters of intent that clearly state the service that will be provided at the project for the benefit of the residents from any party administering each service, including the applicant. (0 to 10 points)

2. States will conduct preliminary eligibility review, score applications, and forward to the National Office.

3. The National Office will rank all requests nationwide and distribute funds from any FY 2004 appropriation to States in rank order, within funding and RA limits. A lottery will be used for applications with tied point scores when they all cannot be funded. If insufficient funds or RA remain for the next ranked proposal, that applicant will be given a chance to modify their application to bring it within remaining funding levels. This will be repeated for each next ranked eligible proposal until an award can be made or the list is exhausted.

II. Funding Limits

A. Individual requests may not exceed $3 million (total loan and grant).

B. No State may receive more than 30 percent of the total available funds unless an exception is granted from the Administrator.

C. Rental Assistance will be held in the National Office for use with section 514 loans and section 516 grants and will be awarded based on each project's financial structure and need.

III. Application Process

All applications for sections 514 and 516 funds must be filed with the appropriate Rural Development State Office and must meet the requirements of 7 CFR part 1944, subpart D, and Section IV of this Notice. Incomplete applications will not be reviewed and will be returned to the applicant. No application will be accepted after 5 pm, local time, on May 6, 2004 unless date and time is extended by another Notice published in the Federal Register.

IV. Application Submission Requirements

A. Each application shall include all of the information, materials, forms and exhibits required by 7 CFR part 1944, subpart D, as well as comply with the provisions of this Notice. Each application must also include an estimate of development cost utilizing Form RD 1924-13, “Estimate and Certificate of Actual Cost”, and a proposed operating budget utilizing Form RD 1930-7, “Multiple Family Housing Project Budget.” Applicants are encouraged, but not required, to include a checklist and to have their applications indexed and tabbed to facilitate the review process. The Rural Development State Office will base its determination of completeness of the application and the eligibility of each applicant on the information provided in the application.

B. All applicants who apply for grant funds must also provide, as part of their application, a Dun and Bradstreet Data Universal Numbering System (DUNS) number. As required by the Office of Management and Budget (OMB), all grant applicants must provide a DUNS number when applying for Federal grants, on or after October 1, 2003. Organizations can receive a DUNS number at no cost by calling the dedicated toll-free DUNS Number request line at 1-866-705-5711. Additional information concerning this requirement is provided in a policy directive issued by OMB and published in the Federal Register on June 27, 2003 (Vol. 68, No. 124, pages 38402-38405).

C. Applicants are advised to contact the Rural Development State Office serving the place in which they desire to submit an application for application information.

Dated: February 2, 2004.
Arthur A. Garcia,
Administrator, Rural Housing Service.

[FR Doc. 04-2592 Filed 2-5-04; 8:45 am]

BILLING CODE 3410-XV-P